DEPARTMENT OF THE TREASURY

Internal Revenue Service

Quarterly Publication of Individuals, Who Have Chosen To Expatriate

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2012. For purposes of this listing, long-term residents, as defined in section 877(e)(2), are treated as if they were citizens of the United States who lost citizenship.

Last name | First name | Middle name/initials
AABEL | NINA |
ABELANSKI | NATHALIE | CLAIRE LEVY
ACHARD | GEORGIA | EHRGOTT
ADAMSONS | GERHARD | DIETER
ADEGBESAN | BANDELE | KENNY
ADWAN | MOHAMMAD | A
AHMAD | SABEENA |
AHSANI | CYRUS | ALLEN
AICHER | MARCUS | CHRISTIAN
AKOI | GOBIND | SINGH
ALEXANDER | JOHN | LAURENCE
AMMANN | JURG | CHRISTIAN
ANDRES | DIETER | KLAUS
ANDREWS | STEVEN | JOHN
ARLEDTER | HANS | PETER
ARNAUT | DAMIR |
ARNOLD-SICKER | CHRISTINE | DENISE
ASNANI | VIMLA | ARJAN
BACHMANN-SOLDATI | PIERA | MARISA
BAHZAD | CHRISTOBEL | GRANT
BAHZAD | GEORGE | ALLEN
BARNSLEY | ALICE | KORNELIA
BARTOLO | CYNTHIA | MILVAINE
BASEHART | JOHN | ANTHONY
BATISTA | PABLO |
BECKMAN | JEREMY | JINGREN
BECKWITH | THERESE | MARIE
BEDNARZ | ANN | M
BEDNARZ | ROBERT | WALTER
BEECROFT | THOMAS | LEONARD
BELOTTE | CHRISTOPHE | DAVID BENJAMIN
BELOTTE | GARRY | LUC
BELOTTE | MARIANNA | SARAH VICTORIA
BERCHTOLD | HANS | PETER
BERNATEK | BARBARA | JEAN
BERRIER | ALEXA | MARIE CHAMAY
BETTELS | CHERYL | CATE
BIERI | MARC | KEONI
BISSIG | ALEXANDRA | MARIA
BOBER | DAVID | CARL
BOLLMANN | MARIA | DEL CARMEN
BONNARD | VINCENT | DANIEL
BOUCHER | ANDREW | FRANKLIN
BOWDEN | GEORGENE | BROOKE
BOXER | VIRGINIA | ANNE
BRANCA | FLAVIO | CASTELLO
BRENNINKMEYER | THOMAS | ANTHONY
BRIDGMAN | WINSTON | ROMAINE FITZ
BRINKMANN | MARYANNE | ELIZABETH
BROECHIN | KATHARINA | ELISABETH OERTLI
BROWN | JONATHON | NOAH
BRUESTLE | URSULA | DECKER
BRUN | ERIC | CHRISTIAN
BULGARI | GIORGIO | DIMITRI
BURCKHARDT | DOMINIQUE | CLAUDINE
BURROWS | JULIANE |
BUSSMANN | ELISABETH | LANDA
CAAN | DOROTHEE | DOMENICA
CALHOUN | BRIAN | DOUGLAS
CALZAVARA | RICCARDO | BRUNO
CARRASCO | FRANCESCO |
CARRASCO | JAIME |
CARY | LISA | JANE
CHAMAY | EMILIE | MARISSA
CHAN | GLADYS | LO
CHANG | CHIAO-PO |
CHANG | JENNIFER | HYUN JEONG
CHANG | JESS | KIM
CHAPUISAT | SOPHIE | CLAIRE
CHARRON | LESLEY | JANE
CHEN | BENJAMIN | WEI JIE
CHIEW | KRISTIE | MICHELLE
CHOPDAR | ANIL | CHRISTOPHER
CHRISTENSEN | DEIDRE |
CLARK | ROBIN |
COMPARINI | JULIE | ANN
COUAILHAC | DIANNE | JOY
CRAWLEY | PETER | ALLEN
CRAWLEY | ROBERT | ALLEN
CUDDIHY | BASIL | ROBERT
DACK | SOFIE | ELIZABETH VAN T
DANIEL | MONIQUE | MERCEDES
DAYTON | GREGORY | FRANCIS
DE GLUCKSBIERG | MARIE | CAROLINE DECAZES
DE WAZIERS | ADELINE | VAN DER CRUISSE
DI RICCO | THEODOR | LOUIS
DIAZ | RALPH | JAMES
DIEZ | FERMIN | AUGUSTO
DING | NICOLE | SHANNON
DONNELLY | CLINTON | JOHN
DORSCH | KAROLINE | ELISABETH
DOSCH | PATRICK | JEAN-LOUIS
DU PASQUIER | SUZANNE | ELIZABETH
DUGDALE | JUDY | LEE
EATON | HOWARD | LESLIE
EBERT | GISELA | GERDA
EISENBERG | DENISE |
ERDIN-SORENSEN | RENEE | SUSANNE
FALCONER | JUDITH | ANN
FANG | GENG | SENG
FANG | YI | CHING CHANG
FARAJ | SALEH | SULIMAN ETRAD
FARMER | STEPHEN | GEORGE
FINKELSTEIN | NATHAN | GARY
FISCHER | BERNHARD | BALTHASAR
FISLER | THOMAS | MATTHEW
FIVAZ | MATHIEU | CHARLES
FJELD | SONJA | NORENE
FLEMING | JAY | LYNNE
FLOUTY | ANTOINE | NICHOLAS
FOO | ANGELA | WEI-QIN
FORD | GLENORA | ESTHER
FOSTER | CRAIG | LITHGOW
FRANCOIS | JEAN-MARC |
FRIEDMAN | ALINDA | ROCHELLE
FRINGHIAN | CHRISTIAN | RICHARD ACHOD
FRINGHIAN | CORALINE | ISABELLE ROCHETTE
FRITZ | EVELYNE | CHARLOTTE NAVILLE
FULLERTON | ALAN | DEAN
FUREVOLD-BOLAND | ERIK | PAUL
FURLER | NICOLAS | SILVAN
FURRER | GAJA | MARIA
FURRER | JONAS | KEVIN
FURRER | SACHA | GABRIELLA
GAGNON | JOSEPH | THOMAS
GALLAGHER JR | THOMAS | JOHN
GALLO | CHRISTINA | MARIE
GANDY | JULLIE | ANN
GAY | ROLAND | HENRY
GIBBON III | ROBERT |
GILLESSEN | SILKE |
GLINES | MARGARETTA | VICTORIA
GLOMSETH | ELISABETH | ERIKSRUD
GRAHAM SR | JAMES | MICHAEL
GRAWE | KIMBERLY | LUISA
GREEN | ELLEN | HUGHES
GRETER | SUZANNE | BEATRICE
GRIEDER | CALVIN |
GRIEDER | KATHRYN | ANNE
GROB | NICOLE | ALEXANDRA
GROB | STEPHAN | ANDREAS
GROSSENBACHER | THIERRY | FABIEN
GROSSI | ANTONELLA | ILARIA
GROSSI | ELENA | FANTACCI
GROSSI | PIERFRANCESCO | LUIGI
GROSSI | PIETRO | GIUSEPPE
GROSSI | VALENTINA | GIULIA
GRUBB | STEPHANIE | DIANE
GRUBER | SEBASTION |
GRZEBINSKI | BERNARD | PETER
GUEISSAZ | MATTHIEU | PIERRE ELIE
GUJRAL | RAGNINI |
GUJRAL | VISHAL |
GUTOWSKI | JANET | ANN
GWON | KYUNG | HEE
HACKETT | WILLIAM | SHAW
HADLEY | MICHAEL | PATRICK
HAEFELI | STEPHANIE |
HAEFELI | THOMAS | HANS
HAHM | CLEMENT | TAEK
HALE | CHRISTIAN | WILLIAM LEAR
HALTER | STEFAN | FELIX
HANDELS | NANCY | PORTER FERGUSON
HANDLERY | KARINE |
HANDLERY | MARC | ANDRE
HARLOW | EDWARD | CHRISTOPHER
HART | MARTEN | RICHARD
HART | MARTEN | FOLKERT
HARTENECK | RALF |
HAY | ANASTASIA |
HERTACH | CASPAR |
HEUBACH | ISABELLE | FRANZISKA SOPHIE
HICKMAN | DOROTHY | ANNE
HIEBERT | MYRNA | FAYE
HIRSHFELD | ALLEN | CHARLES
HO | RACHEL | HWEE HSIEN
HODGSON | KARIN | PETRA HAGEN
HOLST | MURIEL | ANN
HONG | CHONG-MIN |
HONG | SUE | BIN
HOPKINS | CAROLYN | MARGARET
HU JR | JEROME | SHAO-CHIANG
HUEMBELIN | SUSAN | CECILLE FLORES
HULL | ARTEMIS | HATZI
HYSJULIEN | BIRGITTA | HACKER
IORNS | SUSAN | GEBHART
ISELIN | ALEXANDRA |
JACOBS | MARGARIT |
JAMES | ROBERT | NEWTON
JAMIL | FADY | MOHAMMED
JAMIL | NADA | MOHAMMED
JANES | ROBERT | ROY
JANKOW | JOEL | CRAIG
JANSSEN | ROSEMARIE | RUTH
JENKINSON | SAMANTHA | EMMA
JEON | IKE | DOMINICUS
JEON | KAY | CHO
JERDEE | REGINA | ISOLDE
JOCHUM | ADRIENNE | GRACE
JOHNSTON | LANCE | KALLEN
JUGO | JULIE | MELINDA
KAFIE | TYARA |
KEILBAR | PETER | TIMOTHY
KELLER | PATRICIA | DORIS
KELLY | ALEXANDER | ANTHONY
KELLY | VIRGINIA | RAE
KEMPE | TOBY | NICHOLAS
KESSLER | CHRISTIAN | PATRICK
KESSLER | TOM | OLIVER
KIM | CHEOL | KYU
KIM | JAY | KYUN
KIM | SUN | POK
KIM | WON | IL
KLAINGUTI | FLORIAN | ALEXANDER
KNUP | SABRINA |
KOTHARI | VINAY | KUMAR
KREISEL | ARIK |
KRETZSCHMAR | RUBEN | MICHAEL MARTIN
KROEKER | WALTER | EDWIN
KUAN | CHUNG-MING |
KUCHLER | HANS-RUDOLF |
KUNZ | IRENE | KARIN
KUNZNER | STEFAN | VICTOR
KUO | EFFIE | LO
LAM | JASON | CHI CHUNG
LANDT | DELORES | MARIE
LANG | PETER | JEAN-PIERRE
LARAKI-SABRIER | MICHELE | GLORIA
LAU | CHERYL | MAY LING
LAWRENCE | HEATHER | BUNTING
LAY | DOROTHY | HON MAN
LE QUELLEC | FLEUR | MARIE
LEARY | DEBORAH | MAY
LEE | BENITA | YILING
LEE | JOSEPH | JAE
LEE | NAM | SOOK
LEE | RACHEL | INHAE
LEHMANN | DIETER | RENE
LEHMANN | MIGUEL |
LEIGH | RITA | CATHERINE LOUISE MICHELS
LEU | ALOIS |
LEVENE | JENNIFER | WINIFRED ANDRASKO
LEVONTIN | ETHAN | JOEL
LEWIN | ROBIN | LYNN
LEWIS | CHARLES | ALBERT
LEWIS | MARY | ELLEN
LI | ZHISHUN |
LIANG | HSIAO-YUN | TANG
LIANG | PHILLIP | CHINCHIEN
LIM | FUNG | FUNG
LIN | HUIYAO |
LIN | IPANG |
LIN | RUEY | SHIUNG
LOREK | KEVIN |
LOW | BERNARD | YI-RUI
LOWTHER | JAMES | WILLIAM DOLFIN
LUBLINER | GARY |
LUEDERS | JOACHIM | HENRY TESSMAR
LUEDERS | KARIN | GABRIELE
LYBRAND | SEAN | GRADY
MACCABE | BERNARD | SHERIDAN
MAKOV | DAVID |
MAMIN | JEAN | ROBERT ALEXANDRE
MARCONI | JENNIFER | STUMP
MARINO | CLAUDIA | MARIE
MARLOW | SALLY | MILLAR
MARTIN | YASMINE | TRACY
MATTHEWS | MARCI | LORRAINE
MAZEL | JARMILA |
MCGAUGH | EDWARD | JAMES
MCGAUGH | MELANIE | AILEEN
MCKAY | DOUGLAS | MAXWELL
MCKAY | JAMES | ALEXANDER
MERTENS | DIANE | MARIE
MESSERLI | OLIVIER | JEAN-CLAUDE
MEVEL | SYLVIE | MADELEINE LOUISE
MEYER | NORMA | LESLIE SOLDATI
MILLER | BRUCE | LEE
MILLER | DAVID | ALAN
MILLET | BRUNO |
MILLET | CATHERINE | MARIE
MILNE | NATASHA | JANE
MIN | CHRIS | SHIK
MIN | STEVE | BAE
MIZRACHI | ELI | HAIM
MONTAGUE | ALEXANDRE | NICOLAS
MONTGOMERY | RONALD | PAUL
MORGAN | EDUARDO | ENRIQUE
MORRIS | LARRY | THOMAS
MORROW | LAURA | ANN
MUELLER-BLATTER | LYDIA |
MULANOVICH | CARLOS |
MULLER | CHRISTOPHER | HANS
MUNSCH | KIM |
NAGY | WILLIAM | NICHOLS
NALOS | PAUL | BERNARD
NANNESTAD | TAMMY | ANN DICKEY
NEMATI | YASHA | MEHDI
NG | JOEL | YUAN-MING
NIIMI | KEIKO | EUNICE
NO | DAVID | YOUNG SUNG
O'DONNELL | MICHAEL | J
OEHRI | ANN | MARGARET
OERTLI | BARBARA | REGULA
OERTLI | JOHANN | JAKOB
OLIVER | CHINUE |
OLIVER | MICHAEL | GEOFFEY
OUW | YINGTSE | CHEN
PAEK | KI | SON
PAHLSSON | SETH | HENRIK
PALLONE | JOSEPH | JOHN
PALLONE | RAFFAELA | ELVIA
PARK | ANDREW | QUE
PARK | GEORGE | THOMAS
PARK | MUN | SU
PATRICK | LEONA | JEAN
PAULI | JANET | ELIZABETH
PECK | NATHAN |
PEMPEK | THOMAS | KARL
PENNER | MEGAN | ELLA
PERREN-MARBACH | REGULA | SIMONE
PETER | MARC | ANDREAS
PETERS | NANCY | GRETCHEN
PETIT | JEAN-FREDERICK | MARIE
PFENNINGER | ERNIE |
PFENNINGER | MONICA | BARBARA
PHEASEY | WILLIAM | EARL
PIEPER | NINA | CHRISTINA FREDERIKA
PITTMAN | CHARLENE | THEA
PLESKOT | VLASTA | DIANA
QUADERER | JEFFREY | JOSEPH
QUEK | VICTOR | EMMANUEL
QUIST | DAVID | ANDREW
RADZIWILL | PHILIP | CHARLES
RAUBER | EVELINE | KRAUS
REED-LEU | YVONNE | HELENE
REYMOND | KAREN | DORSAY
RICHNER | PHILIPP |
RIDLEY | MATTHEW | WHITE
RIETZ | MARK | PETER
RING | SEAN | ERIC
ROHR | LUKAS |
ROSSI | PAMELA |
ROUX | RICARDO | ANTONIO
RUDOLF | HANS-PETER | JOSEF
RUEGG | THOMAS | PETER
RUTH | MARTA | RENEE
RYAN | SARAH | ELIZABETH
RYU | JUNGWOON |
SAIF | ABDULLA | FAHED ABDULLA ALI
SALANT | STEPHANIE | LOUISE
SAUER | ANDREANA | MARLYSE SCANDERBEG
SAUVAGEOT | HELENE | MARIE-ANDREE
SAVERIN | EDUARDO | LUIZ
SCANDERBEG | MARCO | ANTONIO
SCHAEREN | HELEN | ADELA
SCHERRER | ROMILDA |
SCHINKEL | JULIA | SOPHIE
SCHOCH | SANDRA | EVELYN VON SALIS
SCHOLTZ | ANNA | BERTHA
SCHUETZ | BARBARA | ANTOINE
SCHUSTER | ANNETTE | HELENE
SCHWARTZ | ARIE | JACOB
SEAH | NICOLE | XIN-YUEN
SEE | ALEXANDER |
SEE | DARYL | JIAO-FU
SEEBERGER | CLAUDIA | MARINA
SEIDEL | MICHAEL | ANDREW MORITZ
SELF | DALTON | DEAN
SELF | SUZANN | CHRISTINA-HOPE
SENGER | PATRICIA | MARY
SHELL | SUSAN | LINDA
SIFRI | KHALED | CONSTANDI
SIMONS | EINAR | LOUIS ENRIQUE
SIROTA | GUEORGUI | V
SIVERS | DEREK |
SKITKA | SOOJEONG |
SLABOSZEWICZ | MARGUERITE | MARIE DECAZES
SLATER | ANDREW | WAYNE
SOOMG | SHIN |
SORG-BRODTBECK | KATHRIN |
SPAMPINATO | JOSEPH | ALBERT
STAPLETON | JAYSON | CHRISTOPHER
STENZLER | MARK |
STOJANOVSKI | EMIL |
STOLT-NIELSEN | NADIA |
STUBER | ANDREAS | PAUL
STUBER | KATRIN |
STUBER | LISA | RAE
STUMP | BEATRICE |
SUTER | MARTIN | KASPAR
SYZ | CHRISTIAN | MARTIN
SYZ | ISABEL | SUSAN
TAN | CHUAN | LIONG
TAN | WEI-EE | BEVERLY
TANG | FRANK | CHIH YUAN
TANG | RACHEL | MAY HAY
TAYLOR | DUDLEY | ROBERT
TEMPESTINI | ANNA | LISA COMPERE
TEMPESTINI | CAMILLA |
TEO | RACHEL | LILING
THOMAS | ALISON | SIAN BUCHANAN
THOMAS | DAVID | MARK LAUGHARNE
THOMAS | ELIZABETH | ANN
THOMSON | ANDREW | DAVID
THRASHER | V | REBA MARTHA
TORNEY | MEGAN | ABIGAIL
TSCHURTSCHENTHALER | JOHN | MARY
TSCHURTSCHENTHALER | MARY | BETH
TURCK | MECHTHILD |
TYNDORF | EDWARD | JAN
ULRICH | WERNER | F
VAANDRAGER | SHARON | KAY
VAN CLEAF | CRAIG | THOMAS
VAN HOONACKER | GERRY | J
VAN HOONACKER | KARIN | MARIE
VAN HOONACKER | NATHALIE | CHRISTIANE
VANNOTTI | GIORGIO | ROBERTO
VEILLEUX | JULIE | GAIL
VELASQUEZ | KATHY | CATHLEEN
VELAY | AGATHE | GENEVIEVE
VELAY | AUGUSTE | MAXIME
VELAY | FELIX | DIDIER
VON CROY | CARL | PHILIPP EMANUEL PRINZ
VON GARSSEN | MARCUS | LUCAS
VON HURTER | MAXIMILIAN | LUDWIG MICHAEL
WADITSCHATKA | URSULA |
WANG | BARBARA | SHIUAN
WANG | NAN | ENG MARGARET
WANG | THOMAS |
WARTHE | JULIE | ANN
WEBER | KATJA | MONICA
WEBER | LILLIAN | ANNINA
WEDGE | WILLIAM | DAVID
WEE | WOON | SHAUN
WELLESLEY | GARRET | GRAHAM
WICK | FRANZISKA | JOAN
WIDMER | SUSAN | ELIZABETH
WIEMER | CHAD | CHRISTOPHER
WIESMANN | HANNES | THOMAS
WILDISEN-PLATTHY | ANDREA | CORINNA
WILD-SOLDATI | LIANA | LOUISA
WILHELMSEN | CATHERINE | LOVENSKIOLD
WOHLGENSINGER | DEBORAH | W. WALTON
WOHLGROTH | ALEC | ROBERT
WONG | KWOK | PING ALBERT
WONG | YEW | COLIN MUN
WOOD | MATTHEW | THOMAS
WOODS | KIRA |
WORMUS | RAPHAELLE | BRUNHELD
WU | WEN | YU
YAU | LUCY | LAU
YEW | JONATHON |
YOO | NANA |
YU | SHENG | HAU
ZAHM | JOHN | ALFRED
ZHANG | SHUJUN |
ZOESCH | CHRISTOPHER | E
ZUND | DANIEL |
ZUND | THOMY |

Dated: April 17, 2012.
Ann V. Gaudell,
Manager Team 103, Examinations Operations—Philadelphia Compliance Services.

[FR Doc. 2012-10274 Filed 4-27-12; 8:45 am]

BILLING CODE 4830-01-P